ENVIRONMENTAL PROTECTION AGENCY

40 CFR Part 300

[FRL-7103-9]

National Oil and Hazardous Substance Pollution Contingency Plan; National Priorities List Update

AGENCY: Environmental Protection Agency.

ACTION: Notice of deletion of the Aladdin Plating Superfund Site from the National Priorities List.

SUMMARY: The Environmental Protection Agency (EPA) Region III announces the deletion of the Aladdin Plating Superfund Site (Site), located in Scott and S. Abington Townships, Lackawanna County, Commonwealth of Pennsylvania, from the National Priorities List (NPL).

The NPL, promulgated pursuant to Section 105 of the Comprehensive Environmental Response, Compensation, and Liability Act of 1980, as amended (CERCLA), is appendix B of 40 CFR part 300, which is the National Oil and Hazardous Substances Pollution Contingency Plan (NCP). EPA and the Commonwealth of Pennsylvania, through the Pennsylvania Department of Environmental Protection, have determined that the site no longer poses a significant threat to public health or the environment and that all appropriate response actions under CERCLA have been completed. Semi-annual monitoring of nearby residential, annual monitoring of on-site wells, and five-year reviews to ensure that the site remains protective of public health and the environment will continue to be conducted.

EFFECTIVE DATE: November 16, 2001.

ADDRESSES: Comprehensive information on this site is available for viewing at the Site Information Repositories at the following locations: U.S. EPA, Region III, Regional Center for Environmental Information, 1650 Arch Street, Philadelphia, Pennsylvania, 19103, (215) 814-5254 or (800) 553-2509, Monday through Friday 8 a.m. to 4:30 p.m.; Scott Township Municipal Building, Route 437, Olyphant, PA 18447, (570) 254-6969; South Abington Township Building, 104 Shady Lane, Montdale, PA 18410, (570) 586-2111.

FOR FURTHER INFORMATION CONTACT: Patrick McManus (3HS21) , Remedial Project Manager, U.S. Environmental Protection Agency, Region III, 1650 Arch Street, Philadelphia, PA 19103-2029; (215) 814-3198 or 1-800-553-2509; e-mail address: mcmanus.pat@epa.gov.

SUPPLEMENTARY INFORMATION: The site to be deleted from the NPL is:

Aladdin Plating Site, Scott Township, Lackawanna County, Commonwealth of Pennsylvania.

A Notice of Intent to Delete for this site was published in the Federal Register on September 17, 2001 (66 FR 48018). The closing date for comments on the Notice of Intent to Delete was October 17, 2001. EPA received one comment from three residents that live adjacent to the site. This comment is addressed in the Responsiveness Summary which has been placed in the Deletion Docket. In response to this comment, EPA has agreed to increase the frequency of sampling of residential wells adjacent to the Site from annual to semi-annual.

EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous waste, Hazardous substances, Intergovernmental relations, Penalties, Reporting and recordkeeping requirements, Water pollution control, Water supply.

Dated: November 7, 2001.
James W. Newsom,
Acting Regional Administrator, U.S. EPA Region III.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of appendix B to part 300 is amended under Pennsylvania (“PA”) by removing the entry for “Aladdin Plating, Scott Township”.

[FR Doc. 01-28630 Filed 11-15-01; 8:45 am]

BILLING CODE 6560-50-P